DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 2 individuals and 24 entities whose property and interests in property have been blocked pursuant to the Foreign Narcotics Kingpin Designation Act (“Kingpin Act”) (21 U.S.C. 1901-1908, 8 U.S.C. 1182).

DATES: The designation by the Director of OFAC of the two individuals and 24 entities identified in this notice pursuant to section 805(b) of the Kingpin Act is effective on August 15, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On August 15, 2012, the Director of OFAC designated the following two individuals and 24 entities whose property and interests in property are blocked pursuant to section 805(b) of the Kingpin Act.

Individuals

1. CASTELLANOS CHACON, Christina Stetanel (a.k.a. “CHRISTA CASTELLANOS”); DOB 17 Jun 1991; nationality Guatemala; Passport 133374328 (Guatemala) (individual) [SDNTK].

2. SAENZ LEHNHOFF, Maria Corina (a.k.a. DE DEL PINAL, Maria Corina; a.k.a. SAENZ LEHNHOFF, Maria Gabriela; a.k.a. SAENZ PINAL, Maria Corina); DOB 19 May 1965; POB Guatemala; nationality Guatemala; Passport 31486K (Guatemala) (individual) [SDNTK] Linked To: INMOBILIARIA DATEUS; Linked To: WALNUTHILL; Linked To: CABOMARZO; Linked To: GRUPO MPV; Linked To: DELPSA; Linked To: BRODWAY COMMERCE INC.; Linked To: CASA VOGUE.

Entities

3. ALMACEN PICIS, 3 Avenida 19-59, Local 14, Zona 1, Guatemala City, Guatemala; Registration ID 80617 (Guatemala) [SDNTK].

4. ALQUILERES ROSSELL, Km 12.5 Carrertera Al Salvador, Santa Rosalia, Condominio La Laguna, Casa 1, Guatemala, Guatemala; Registration ID 388175 (Guatemala) [SDNTK].

5. AUTO HOTEL PUNTO CERO, Kilometro 49.5 Carretera A El Salvador, Aldea El Cerinal, Barberena, Santa Rosa, Guatemala; Registration ID 404256 (Guatemala) [SDNTK].

6. BODEGAS BANYOLAS, 14 Avenida 7-12 Zona 14, Centro Empresarial La Villa Bodega 23, Guatemala City, Guatemala; Registration ID 71152 (Guatemala) [SDNTK].

7. BOUTIQUE MARLLORY, KM 54.5 Carretera Al Salvador, Santa Rosa, Barberena, Guatemala; Registration ID 159497A (Guatemala) [SDNTK].

8. BRODWAY COMMERCE INC., 17 Calle A 7-21, Zona 10, Guatemala City, Guatemala; Registration ID 60832 (Guatemala) [SDNTK].

9. CABOMARZO, 3A Calle 3-46, Zona 2, Residenciales Valles De Maria, Villa Nueva, Guatemala; Registration ID 89276 (Guatemala) [SDNTK].

10. CASA VOGUE, Km 14.1 Carretera El Salvador, Centro Comercial Paseo San Sebastian Local 92, Guatemala City, Guatemala [SDNTK].

11. CORPORACION DAIMEX S.A., 14 Avenida 7-12, Zona 14, Bodega No. 22, Empresarial La Villa, Guatemala City, Guatemala; Registration ID 36397 (Guatemala) [SDNTK].

12. DELPSA, 2 Calle 25-80, Zona 15, Vista Hermosa II, Apt. 800, Guatemala City, Guatemala; Registration ID 200766 (Guatemala) [SDNTK].

13. DIGITAL SYS ADVISORS, 14 Avenida 7-12 Zona 14, Bodega 22, Empresarial La Villa, Guatemala City, Guatemala; Registration ID 68326 (Guatemala) [SDNTK].

14. DISTRIBUIDORA ROSSELL, Calzada Roosevelt KM, 13 40-31, Zona 11, Guatemala City, Guatemala; Registration ID 388221 (Guatemala) [SDNTK].

15. ESTRUCTURAS METALICAS, CIRCULARES Y ORTOGONALES (a.k.a. “EMCO”), Aldea El Durazno Lote 12 Kilometro 8.5, Antigua Ruta A San Pedro Ayampuc, Chinautla, Guatemala; Registration ID 45703 (Guatemala) [SDNTK].

16. FARFAR, 14 Avenida 7-12 Zona 14, Bodega 22, Empresarial La Villa, Guatemala City, Guatemala; Registration ID 75563 (Guatemala) [SDNTK].

17. FERNAPLAST, Km 12-5 Ruta Al Atlantico, Apto. A, Zona 18, Guatemala City, Guatemala; Registration ID 188919A (Guatemala) [SDNTK].

18. GRUPO MPV, Km 14.1 Carretera El Salvador, Centro Comercial Paseo San Sebastian Local 92, Guatemala City, Guatemala; Registration ID 55544 (Guatemala) [SDNTK].

19. HACIENDA SANTA INES, 3 Avenida 13-46 Zona 1, Guatemala City, Guatemala; Registration ID 319945 (Guatemala) [SDNTK].

20. HUERTAS Y HORTALIZAS, Lote 10 Aldea Las Vacas, Zona 16, Guatemala City, Guatemala; Registration ID 49720 (Guatemala) [SDNTK].

21. IMPORTADORA BORRAYO LASMIBAT, 13 Av 26-49, San Jose Las Rosas Zona 8, Guatemala City, Guatemala; Registration ID 135027 [SDNTK].

22. INMOBILIARIA DATEUS, 1era Avenida 7-60, Zona 14, Apartamento 1602 Del Edificio Tadeus, Guatemala City, Guatemala; Registration ID 84101 (Guatemala) [SDNTK].

23. INVERSIONES A&E, 8 Avenida 16-49 Zona 10, Edificio San Ignacio Apto. 2-A, Guatemala City, Guatemala; Registration ID 43339 (Guatemala) [SDNTK].

24. OPERADORA CORPORATIVA DE NEGOCIOS (a.k.a. “OCN”), Diagnol 6 No. 16-01, Zona 10, Guatemala City, Guatemala [SDNTK].

25. SISTEMAS CONSTRUCTORES (a.k.a. “SICONSA”), Lote 10, Aldea Las Vacas, Zona 16, Guatemala City, Guatemala; Registration ID 34279 (Guatemala) [SDNTK].

26. WALNUTHILL, Diagnol 6 10-01, Zona 10, Centro Gerencial Las Margaritas, Torre II, Of. 301-B, Guatemala City, Guatemala; Registration ID 80886 (Guatemala) [SDNTK].

Dated: August 15, 2012.
Barbara C. Hammerle,
Acting Director, Office of Foreign Assets Control.

[FR Doc. 2012-20954 Filed 8-23-12; 8:45 am]

BILLING CODE 4810-AL-P